DEPARTMENT OF AGRICULTURE

Forest Service

Bitterroot National Forest, Ravailli County, MT, Middle East Fork Project

AGENCY: Forest Service, USDA.

ACTION: Notice of intent to prepare an environmental impact statement.

SUMMARY: In accordance with the National Environmental Policy Act, notice is hereby given that the Forest Service, Bitterroot National Forest will prepare a Draft Environmental Impact Statement to disclose the environmental consequences of the proposed Middle East Fork (MEF) Project. The proposed project would treat vegetation on approximately 6000 acres in the Middle East Fork of the Bitterroot River watershed to help reduce wildland fire threats and restore fire adapted ecosystems.

The need for action in the Middle East Fork area became highlighted by the local community after the wildfires of 2000. This area was identified in the Bitterroot Community Wildfire Protection Plan as a high priority area to reduce wildland fire risk. This plan was developed through community collaborative efforts involving community leaders, organizations, and residents and is reviewed annually.

The Forest Service completed a watershed analysis (EAWS) for the Middle East Fork landscape that included a recommendation to reduce the threat from wildfire in the wildland urban interface. Another recommendation was to restore desired and historical vegetation composition and structure using harvest, prescribed fire, and cultural activities.

The Middle East Fork Project area occupies the middle third of the East Fork of the Bitterroot River drainage. On the north side of the East Fork Bitterroot River, it begins just east of Cameron Creek and extends to and includes Tepee Creek. On the south side it begins east of Tolan Creek and extends to Meadow Creek. The Bitterroot Community Wildfire Protection Plan identifies the wildland urban interface in this area as a high risk area and labeled the area a priority for treating hazardous fuels. The Middle East Fork wildland urban interface extends through the middle of the project area encompassing the community of approximately 700 residents along the East Fork Bitterroot River and the East Fork Road. The East Fork Road provides the only paved emergency access and escape route for the community.

This is an authorized project under the Healthy Forest Restoration Act of 2003 (Pub. L. 108-148). This act contains a variety of provisions to expedite hazardous fuel reduction and forest restoration projects such as this on specific types of Federal land that are at risk from wildland fire or insect and disease epidemics.

Project objectives follow those defined in the National Fire Plan, the Bitterroot Community Wildfire Protection Plan, and the Healthy Forest Restoration Act and include: Reduce wildland fire threat to the East Fork community, restore fire-adapted ecosystems in the Middle East Fork landscape, and restore stands affected by the Douglas-fir beetle epidemic by treating infested areas and lands at imminent risk of spread of the beetle epidemic to promote healthy ecosystem function, composition and structure.

DATES: Comments concerning the scope of the analysis should be received by December 6, 2004. The draft of environmental impact statement is expected to be available for public review in February 2005 and the final environmental impact statement is expected to be available end of April 2005.

ADDRESSES: Submit written, oral, or e-mail comments by: (1) Mail—Middle East Fork Project; Tracy Hollingshead, District Ranger; Sula Ranger Station; 7338 Hwy 93 S; Sula, Montana 59871 (2) phone—(406) 821-3201; (3) e-mail—comments-northern-bitterroot-sula@fs.fed.us.

FOR FURTHER INFORMATION CONTACT: Project Team Leader, Sula Ranger District, Bitterroot National Forest (see address above).

SUPPLEMENTARY INFORMATION:

Purpose

The purpose is to reduce the wildland fire risk to the Middle East Fork community to restore fire adapted ecosystems in the Middle East Fork watershed particularly focusing on the wildland urban interface as defined by the Bitterroot Community Wildfire Protection Plan.

Proposed Action

The proposed action is designed with extensive mitigation to reduce potential impacts. To accomplish the project objectives the following actions would be taken:

—Commercial thinning of Douglas-fir and ponderosa pine stands and salvage of beetle-killed Douglas-fir with yarding of activity fuels followed by prescribed fire, jackpot burning, or burning of high piled slash. Approximately 1650 acres.

—Commercial thinning of Douglas-fir and ponderosa pine stands and salvage of beetle-killed Douglas-fir with yarding to remove activity fuels. Approximately 700 acres.

—Pre-commercial thinning of young stands followed by burning of hand piled slash or lop and scattering slash. Approximately 500 acres.

—Salvage and/or sanitation harvest of diseased and/or dead and dying Douglas-fir stands followed by burning of created slash piles. Approximately 240 acres.

—Regeneration harvest in stands of extensive Douglas-fir beetle mortality with yarding of activity fuels followed by prescribed fire, jackpot burning, or burning of hand piled slash. Approximately 1450 acres.

—Regeneration harvest in stands of extensive Douglas-fir beetle mortality with yarding of activity fuels. Approximately 170 acres.

—Approximately 3 miles of temporary road would be constructed and then obliterated upon project completion.

—Road drainage improvements on approximately 14 miles of major forest roads prior to the project beginning. Other roads would be maintained or improved under terms of project contracts.

—Prescribed fire in grasslands and open forest stands. May include slashing prior to burning, and/or seeding and fertilization treatment on approximately 1500 acres of grassland/open forests.

—Regeneration planting in stands with heavy mortality.

The Bitterroot National Forest also proposes to disclose the effects of a site-specific Forest Plan Amendment that is needed to modify or clarify several standards in the Bitterroot National Forest Plan. This would include adjusting the Forest-wide and management area snag and coarse woody debris standards to better reflect current research, the Forest-wide thermal cover standard as it relates to this area, and standards defining what practices are allowed within certain lands classified as unsuitable for timber production and within old growth habitat. The proposed amendments to the Forest Plan, if approved, would apply only to the Middle East Fork Project area.

Responsible Official

The responsible official for the Middle East Fork Project is Dave T. Bull, Forest Supervisor, Bitterroot National Forest.

Nature of Decision To Be Made

The Responsible Official will determine whether or not to proceed with the proposed project activities.

Scoping Process

Comments will be accepted during the 30-day scoping period as described in this notice of intent. To assist in commenting, a scoping letter providing more detailed information on the project proposal has been prepared and is available to interested parties. Contact Tracy Hollingshead, Sula District Ranger at the address listed in this notice of intent if you would like to receive a copy.

Comment Requested

This notice of intent initiates the scoping process that guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 28, 2004.
David T. Bull,
Forest Supervisor.

[FR Doc. 04-24508 Filed 11-2-04; 8:45 am]

BILLING CODE 3410-11-M